DEPARTMENT OF AGRICULTURE

Forest Service

Payette National Forest, Idaho; Lick Timber Sale

AGENCY: Forest Service, USDA.

ACTION: Notice of cancellation of an environmental impact statement.

SUMMARY: On July 10, 2002, the USDA Forest Service published in the Federal Register (67 FR 45699) a Notice of Intent (NOI) to prepare an environmental impact statement (EIS) for the Lick Timber Sale project on the Council Ranger District of the Payette National Forest. The Forest Service has conducted a scoping process, and as a result of initial environmental analysis, has reduced the scope and scale of the project. The reconfigured proposed action is appropriate for analysis in an environmental assessment (EA) instead of an EIS. Therefore, an EIS will not be prepared, and the NOI is hereby canceled.

FOR FURTHER INFORMATION CONTACT: Questions about the cancellation of the NOI should be directed to Bill Spoerer, Environmental Coordinator, Council Ranger District, Payette National Forest, P.O. Box 567, Council, Idaho, 83612, phone (208) 253-0100.

Dated: November 3, 2003.
Robert S. Giles,
Acting Forest Supervisor.

[FR Doc. 03-28154 Filed 11-7-03; 8:45 am]

BILLING CODE 3410-11-M